DEPARTMENT OF ENERGY

Federal Energy Regulatory Commission

[Docket No. EL06-28-000]

City of Sioux Falls, South Dakota and Heartland Consumers Power District, Complainant, v. Xcel Energy Services, Inc., Northern States Power Company (Minnesota), and Midwest Independent Transmission System Operator, Inc., Respondents; Notice of Complaint

December 20, 2005.

Take notice that on December 19, 2005, the City of Sioux Falls, South Dakota and Hearland Consumers Power District (City/Heartland) filed a Complaint against Northern States Power Company (Minnesota), Xcel Energy Services, Inc. (Xcel), and the Midwest Independent System Operator, Inc. (MISO), for their alleged refusal to provide transmission service to the City for service under the City/NPS Interconnection & Inter-change Agreement, Service Schedule F.

City/Heartland states that a copy of this complaint and supporting documents have been served upon NSP, Xcel and MISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on December 29, 2005.

Magalie R. Salas,
Secretary.

[FR Doc. E5-7932 Filed 12-27-05; 8:45 am]

BILLING CODE 6717-01-P